SMALL BUSINESS ADMINISTRATION

[Disaster Declaration #14754 and #14755]

West Virginia Disaster Number WV-00044

AGENCY: U.S. Small Business Administration.

ACTION: Amendment 1.

SUMMARY: This is an amendment of the Presidential declaration of a major disaster for Public Assistance Only for the State of West Virginia (FEMA-4273-DR), dated 07/06/2016.

Incident: Severe Storms, Flooding, Landslides, and Mudslides.

Incident Period: 06/22/2016 through 06/29/2016.

Effective Date: 07/13/2016.

Physical Loan Application Deadline Date: 09/06/2016.

Economic Injury (EIDL) Loan Application Deadline Date: 04/06/2017.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of West Virginia, dated 07/06/2016, is hereby amended to include the following areas as adversely affected by the disaster.

Primary Counties: Braxton, Gilmer, Lewis, Lincoln, Randolph, Upshur, Wayne.

All other information in the original declaration remains unchanged.

(Catalog of Federal Domestic Assistance Number 59008)

Lisa Lopez-Suarez,
Acting Associate Administrator for Disaster Assistance.

[FR Doc. 2016-17320 Filed 7-20-16; 8:45 am]

BILLING CODE 8025-01-P